DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 10, 2015.
Roy E. Wright,
Deputy Associate Administrator for Insurance and Mitigation, Department of Homeland Security, Federal Emergency Management Agency.

State and county | Location and case No. | Chief executive officer of community | Community map repository | Effective date of modification | Community No.
Alabama:
Jefferson (FEMA Docket No.: B-1514) | City of Birmingham (14-04-9133P) | The Honorable William A. Bell, Sr., Mayor, City of Birmingham, 710 North 20th Street, Birmingham, AL 35203 | Planning and Engineering Department, 710 North 20th Street, Birmingham, AL 35203 | Jul. 20, 2015 | 010116
Jefferson (FEMA Docket No.: B-1514) | City of Irondale (14-04-9133P) | The Honorable Tommy J. Alexander, Mayor, City of Irondale, P.O. Box 100188, Irondale, AL 35210 | City Hall, 101 20th Street South, Irondale, AL 35210 | Jul. 20, 2015 | 010124
Jefferson (FEMA Docket No.: B-1514) | City of Mountain Brook (14-04-9133P) | The Honorable Lawrence T. Oden, Mayor, City of Mountain Brook, P.O. Box 130009, Mountain Brook, AL 35213 | City Hall, 3928 Montclair Road, Mountain Brook, AL 35213 | Jul. 20, 2015 | 010128
Alabama: Jefferson (FEMA Docket No.: B-1514) | Unincorporated areas of Jefferson County (14-04-9133P) | The Honorable Jimmie Stephens, Chairman, Jefferson County Commission, 716 Richard Arrington Jr. Boulevard North, Birmingham, AL 35203 | Jefferson County Land Development Department, 716 Richard Arrington Jr. Boulevard North, Birmingham, AL 35203 | Jul. 20, 2015 | 010217
Washington (FEMA Docket No.: B-1514) | Town of McIntosh (15-04-1284P) | The Honorable Wilbert Dixon, Mayor, Town of McIntosh, P.O. Box 351, McIntosh, AL 36553 | Town Hall, 206 Commerce Street, McIntosh, AL 36553 | Jul. 27, 2015 | 010525
Washington (FEMA Docket No.: B-1514) | Unincorporated areas of Washington County (15-04-1284P) | The Honorable Allen Bailey, Chairman, Washington County Board of Commissioners, P.O. Box 146, Chatom, AL 36518 | Washington County Engineering Department, 45 Court Street, Chatom, AL 36518 | Jul. 27, 2015 | 010302
Arkansas: Benton (FEMA Docket No.: B-1509) | City of Rogers (14-06-2125P) | The Honorable Greg Hines, Mayor, City of Rogers, 301 West Chestnut Street, Rogers, AR 72756 | City Hall, 301 West Chestnut Street, Rogers, AR 72756 | Jul. 6, 2015 | 050013
Colorado: El Paso (FEMA Docket No.: B-1514) | City of Colorado Springs (15-08-0177P) | The Honorable Steve Bach, Mayor, City of Colorado Springs, 30 South Nevada Avenue, Colorado Springs, CO 80903 | City Administration, 30 South Nevada Avenue, Colorado Springs, CO 80903 | Jul. 27, 2015 | 080060
Florida:
Manatee (FEMA Docket No.: B-1514) | City of Bradenton (15-04-1364P) | The Honorable Wayne H. Poston, Mayor, City of Bradenton, 101 Old Main Street West, Bradenton, FL 34205 | City Hall, 101 Old Main Street West, Bradenton, FL 34205 | Jul. 14, 2015 | 120155
Manatee (FEMA Docket No.: B-1514) | Unincorporated areas of Manatee County (15-04-1364P) | The Honorable Betsy Benac, Chair, Manatee County Board of Commissioners, P.O. Box 1000, Bradenton, FL 34206 | Manatee County Building and Development, Services Department, 1112 Manatee Avenue West, Bradenton, FL 34205 | Jul. 14, 2015 | 120153
Monroe (FEMA Docket No.: B-1514) | Unincorporated areas of Monroe County (15-04-1517P) | The Honorable Danny Kolhage, Mayor, Monroe County, 1100 Simonton Street, Key West, FL 33040 | Monroe County, Department of Planning and Environmental Resources, 2798 Overseas Highway, Marathon, FL 33050 | Jul. 14, 2015 | 125129
St. Johns (FEMA Docket No.: B-1514) | Unincorporated areas of St. Johns County (14-04-A710P) | The Honorable Rachael L. Bennett, Chair, St. Johns County Board of Commissioners, 500 San Sebastian View, St. Augustine, FL 32084 | St. Johns County Administration, 4040 Lewis Speedway, St. Augustine, FL 32084 | Jul. 15, 2015 | 125147
Georgia: Cobb (FEMA Docket No.: B-1514) | Unincorporated areas of Cobb County (14-04-6997P) | The Honorable Tim Lee, Chairman, Cobb County Board of Commissioners, 100 Cherokee Street, Marietta, GA 30090 | Cobb County Water System, 680 South Cobb Drive, Marietta, GA 30060 | Jul. 13, 2015 | 130052
Kentucky: Fayette (FEMA Docket No.: B-1514) | Lexington-Fayette Urban County Government (14-04-2813P) | The Honorable Jim Gray, Mayor, Lexington-Fayette Urban County Government, 200 East Main Street, Lexington, KY 40507 | Lexington-Fayette Urban County Government Center, 200 East Main Street, 12th Floor, Lexington, KY 40507 | Jul. 21, 2015 | 210067
Texas:
Bell (FEMA Docket No.: B-1516) | City of Killeen (14-06-4047P) | The Honorable Scott Cosper, Mayor, City of Killeen, P.O. Box 1329, Killeen, TX 76540 | Building and Inspections Division, 100 East Avenue C Killeen, TX 76541 | Jul. 9, 2015 | 480031
Bell (FEMA Docket No.: B-1516) | City of Nolanville (14-06-2754P) | The Honorable Dennis Biggs, Mayor, City of Nolanville, P.O. Box 128, Nolanville, TX 76559 | City Hall, 101 North 5th Street, Nolanville, TX 76559 | Jul. 13, 2015 | 480032
Bell (FEMA Docket No.: B-1509) | City of Temple (13-06-3510P) | The Honorable Danny Dunn, Mayor, City of Temple, 2 North Main Street, Suite 103, Temple, TX 76501 | City Hall, 3210 East Avenue H, Building A, Suite 107, Temple, TX 76501 | Jul. 13, 2015 | 480034
Bell (FEMA Docket No.: B-1516) | Unincorporated areas of Bell County (14-06-4047P) | The Honorable Jon. H. Burrows, Bell County Judge, P.O. Box 768, Belton, TX 76513 | Bell County Engineer's Office, 206 North Main Steet, Belton, TX 76513 | Jul. 9, 2015 | 480706
Bexar (FEMA Docket No.: B-1516) | City of San Antonio (14-06-3050P) | The Honorable Ivy R. Taylor, Mayor, City of San Antonio, P.O. Box 839966, San Antonio, TX 78283 | Transportation and Capital Improvements Department, Stormwater Division, 1901 South Alamo Street, 2nd Floor, San Antonio, TX 78204 | Jul. 28, 2015 | 480045
Bexar (FEMA Docket No.: B-1516) | City of San Antonio (14-06-3615P) | The Honorable Ivy R. Taylor, Mayor, City of San Antonio, P.O. Box 839966, San Antonio, TX 78283 | Transportation and Capital Improvements Department, Stormwater Division, 1901 South Alamo Street, 2nd Floor, San Antonio, TX 78204 | Jul. 16, 2015 | 480045
Bexar (FEMA Docket No.: B-1516) | City of San Antonio (15-06-0336P) | The Honorable Ivy R. Taylor, Mayor, City of San Antonio, P.O. Box 839966, San Antonio, TX 78283 | Transportation and Capital Improvements Department, Stormwater Division, 1901 South Alamo Street, 2nd Floor, San Antonio, TX 78204 | Jul. 27, 2015 | 480045
Bexar (FEMA Docket No.: B-1516) | Unincorporated areas of Bexar County (15-06-0336P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | Jul. 27, 2015 | 480035
Fort Bend (FEMA Docket No.: B-1509) | City of Richmond (15-06-0769P) | The Honorable Evalyn W. Moore, Mayor, City of Richmond, 402 Morton Street, Richmond, TX 77469 | City Hall, 402 Morton Street, Richmond, TX 77469 | Jul. 9, 2015 | 480231
Fort Bend (FEMA Docket No.: B-1509) | Pecan Grove Municipal Utility District (15-06-0769P) | Mr. Chad Howard, President, Pecan Grove Municipal Utility District, Allen Boone Humphries Robinson LLP, 3200 Southwest Freeway, Suite 2600, Houston, TX 77027 | Pecan Grove Municipal Utility District, Jones and Carter Engineering, 6335 Gulfton Drive, Suite 200, Houston, TX 77081 | Jul. 9, 2015 | 481486
Harris (FEMA Docket No.: B-1516) | Unincorporated areas of Harris County (14-06-2578P) | The Honorable Edward M. Emmett, Harris County Judge, 1001 Preston Street, Suite 911, Houston, TX 77002 | Harris County Permit Office, 10555 Northwest Freeway, Suite 120, Houston, TX 77092 | Jul. 13, 2015 | 480287
Parker (FEMA Docket No.: B-1516) | City of Weatherford (15-06-0035P) | The Honorable Dennis Hooks, Mayor, City of Weatherford 303 Palo Pinto Street, Weatherford, TX 76086 | Utility Department Service Center, 917 Eureka Street, Weatherford, TX 78086 | Jul. 23, 2015 | 480522
Rockwall (FEMA Docket No.: B-1516) | City of Rockwall (14-06-4684P) | The Honorable Jim Pruitt, Mayor, City of Rockwall, 385 South Goliad Street, Rockwall, TX 75087 | Engineering Department, 385 South Goliad Street, Rockwall, TX 75087 | Jul. 13, 2015 | 480547
Tarrant (FEMA Docket No.: B-1516) | City of Fort Worth (14-06-3505P) | The Honorable Betsy Price, Mayor, City of Fort Worth, 1000 Throckmorton Street, Fort Worth, TX 76102 | City Hall, 1000 Throckmorton Street, Fort Worth, TX 76102 | Jul. 29, 2015 | 480596
Tarrant (FEMA Docket No.: B-1509) | City of Keller (14-06-4310P) | The Honorable Mark Mathews, Mayor, City of Keller, P.O. Box 770, Keller, TX 76244 | Public Works Department, 1100 Bear Creek Parkway, Keller, TX 76248 | Jul. 6, 2015 | 480602

[FR Doc. 2015-21739 Filed 9-1-15; 8:45 am]

BILLING CODE 9110-12-P